DEPARTMENT OF TRANSPORTATION

Federal Aviation Administration

[Docket No. FAA-2021-0037]

Overview of FAA Aircraft Noise Policy and Research Efforts: Request for Input on Research Activities To Inform Aircraft Noise Policy; Extension of Comment Period

AGENCY: Federal Aviation Administration (FAA), DOT.

ACTION: Extension of comment period.

SUMMARY: This action extends the comment period on a summary review of FAA sponsored research programs on civil aircraft noise that could potentially inform future aircraft noise policy, which was published to the Federal Register on January 13, 2021. The FAA invites public comment on the scope and applicability of these research initiatives to address aircraft noise.

DATES: The comment period for this review was opened on January 13, 2021, 86 FR 2722, and was scheduled to close on March 15, 2021. The comment period is extended for an additional 30 days or a total of 90 days from the original publication date in the Federal Register to April 14, 2021.

ADDRESSES: You may send comments identified by docket number FAA-2021-0037 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE, Washington, DC, between 9 a.m. and 5 p.m., Monday through Friday, except Federal holidays.

FOR FURTHER INFORMATION CONTACT: Mr. Donald Scata, Office of Environment and Energy (AEE-100), Federal Aviation Administration, 800 Independence Ave. SW, Washington, DC 20591. Telephone: (202) 267-0606. Email address: NoiseResearchFRN@faa.gov.

SUPPLEMENTARY INFORMATION: See the “Additional Information” section for information on how to comment on this proposal and how the FAA will handle comments received. The “Additional Information” section also contains related information about the docket, privacy, the handling of proprietary or confidential business information. In addition, there is information on obtaining copies of related rulemaking documents.

Background

On January 13, 2021, the FAA issued a Federal Register Notice (FAA-2021-0037), entitled “Overview of FAA Aircraft Noise Policy and Research Efforts: Request for Input on Research Activities To Inform Aircraft Noise Policy.”

The FAA invites public comment on the scope and applicability of its aircraft noise research initiatives to address aircraft noise. Comments were to be received on or before March 15, 2021. Through discussions with stakeholders during public briefings on the materials presented in this notice, including discussions at Airport Community Roundtable groups, interest in extending the comment period were expressed. An extension of the comment period was requested in order to provide additional time for review of the material presented in the notice and allow for consensus comments to be submitted by community or airport roundtable organizations. To help facilitate the submission of these comments the FAA is adding an additional 30 days to the comment period until April 14, 2021.

Extension of Comment Period

The FAA has determined that extension of the comment period is consistent with the public interest, and that good cause exists for taking this action.

Accordingly, the comment period for FAA-2021-0037 is extended for for an additional 30 days or a total of 90 days from the original publication date in the Federal Register to April 14, 2021.

Additional Information

Comments Invited

The FAA recognizes that a range of factors may be driving concerns due to aircraft noise. However, as outlined in this notice, a broad understanding of aircraft noise and its potential impacts is needed in order to better manage and reduce concerns from aviation noise.

The FAA is inviting comments on these concerns to assist the agency in assessing how resources should be directed to better understand and manage the factors underlying the concern from aircraft noise exposure.

Comments that focus on the questions listed below will be most helpful. The more specific the comments, the more useful they will be in the FAA's considerations.

(1) What, if any, additional investigation, analysis, or research should be undertaken in each of the following three categories as described in this notice:

• Effects of Aircraft Noise on Individuals and Communities;

• Noise Modeling, Noise Metrics, and Environmental Data Visualization; and

• Reduction, Abatement, and Mitigation of Aviation Noise?

(2) As outlined in this notice, the FAA recognizes that a range of factors may be driving the increase in annoyance shown in the Neighborhood Environmental Survey results compared to earlier transportation noise annoyance surveys—including survey methodology, changes in how commercial aircraft operate, population distribution, how people live and work, and societal response to noise. The FAA requests input on the factors that may be contributing to the increase in annoyance shown in the survey results.

(3) What, if any, additional categories of investigation, analysis, or research should be undertaken to inform FAA noise policy?

Authority: National Environmental Policy Act (NEPA) 42 U.S.C. 4321 et. seq., Aviation Safety and Noise Abatement Act (ASNA) 49 U.S.C. 47501 et. seq., Federal Aviation Act, 49 U.S.C. 44715.

Issued in Washington, DC.
Kevin Welsh,
Director, Office of Environment and Energy.

[FR Doc. 2021-05056 Filed 3-10-21; 8:45 am]

BILLING CODE 4910-13-P